OFFICE OF PERSONNEL MANAGEMENT

National Council on Federal Labor-Management Relations Meeting

AGENCY: Office of Personnel Management.

ACTION: Notice of change in meeting date.

SUMMARY: The National Council on Federal Labor-Management Relations meeting previously scheduled for Wednesday, July 16, 2014, and announced in 78 FR 77172 (December 20, 2013), has been rescheduled for Wednesday, July 23, 2014.

The meeting will start at 10:00 a.m. EDT and will be held in Room 1350, U.S. Office of Personnel Management, 1900 E Street NW., Washington, DC 20415. Interested parties should consult the Council Web site at www.lmrcouncil.gov for the latest information on Council activities, including changes in meeting dates.

The Council is an advisory body composed of representatives of Federal employee organizations, Federal management organizations, and senior Government officials. The Council was established by Executive Order 13522, entitled, “Creating Labor-Management Forums to Improve Delivery of Government Services,” which was signed by the President on December 9, 2009. Along with its other responsibilities, the Council assists in the implementation of labor-management forums throughout the Government and makes recommendations to the President on innovative ways to improve delivery of services and products to the public while cutting costs and advancing employee interests. The Council is co-chaired by the Director of the Office of Personnel Management and the Deputy Director for Management of the Office of Management and Budget.

At its meetings, the Council will continue its work in promoting cooperative and productive relationships between labor and management in the executive branch by carrying out the responsibilities and functions listed in section 1(b) of the Executive Order. The meetings are open to the public. Please contact the Office of Personnel Management at the address shown below if you wish to present material to the Council at the meeting. The manner and time prescribed for presentations may be limited, depending upon the number of parties that express interest in presenting information.

FOR FURTHER INFORMATION CONTACT: Tim Curry, Deputy Associate Director for Partnership and Labor Relations, Office of Personnel Management, 1900 E Street NW., Room 7H28, Washington, DC 20415; phone at (202) 606-2930; or email at PLR@opm.gov.

For the National Council.
Katherine Archuleta,
Director.

[FR Doc. 2014-14684 Filed 6-23-14; 8:45 am]

BILLING CODE 6325-39-P